DEPARTMENT OF TRANSPORTATION

Federal Railroad Administration

[Docket Number FRA-2022-0056]

Notice of Application for Approval of Discontinuance or Modification of a Railroad Signal System

Under part 235 of title 49 Code of Federal Regulations (CFR) and 49 U.S.C. 20502(a), this document provides the public notice that by letters received on May 10, 2023, and June 8, 2023, the Buffalo & Pittsburgh Railroad, Inc. (BPRR) petitioned the Federal Railroad Administration (FRA) seeking approval to discontinue or modify a signal system. FRA assigned the petition Docket Number FRA-2022-0056.

Specifically, BPRR requests to discontinue the centralized traffic control (CTC) system on the BPRR mainline in three locations: (1) between the insulated joints at mileposts (MPs) 141.9 and 149.00, (2) between MP 162.10 and 169.80, and (3) between MP 199.9 and 206.28. Several block signals, power switches, and approach signals would be removed from service, and “power switches will be replaced with powered DTMF switches with simulated OS locking circuits.” In support of its application, BPRR states that “the CTC system is no longer essential for the safe movement of traffic as current train activity is reduced,” and removal of the CTC system will improve “efficient operations.” BPRR also states that “there are no opposing train movements or fleeted trains with following moves.”

A copy of the petition, as well as any written communications concerning the petition, is available for review online at www.regulations.gov.

Interested parties are invited to participate in these proceedings by submitting written views, data, or comments. FRA does not anticipate scheduling a public hearing in connection with these proceedings since the facts do not appear to warrant a hearing. If any interested party desires an opportunity for oral comment and a public hearing, they should notify FRA, in writing, before the end of the comment period and specify the basis for their request.

All communications concerning these proceedings should identify the appropriate docket number and may be submitted at http://www.regulations.gov. Follow the online instructions for submitting comments.

Communications received by October 10, 2023 will be considered by FRA before final action is taken. Comments received after that date will be considered if practicable. Anyone can search the electronic form of any written communications and comments received into any of our dockets by the name of the individual submitting the comment (or signing the document, if submitted on behalf of an association, business, labor union, etc.). Under 5 U.S.C. 553(c), the U.S. Department of Transportation (DOT) solicits comments from the public to better inform its processes. DOT posts these comments, without edit, including any personal information the commenter provides, to www.regulations.gov, as described in the system of records notice (DOT/ALL-14 FDMS), which can be reviewed at https://www.transportation.gov/privacy. See also https://www.regulations.gov/privacy-notice for the privacy notice of regulations.gov.

Issued in Washington, DC.
John Karl Alexy,
Associate Administrator for Railroad Safety, Chief Safety Officer.

[FR Doc. 2023-16948 Filed 8-7-23; 8:45 am]

BILLING CODE 4910-06-P